SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before December 8, 2008.

Addresses: Send all comments regarding whether this information collection is necessary for the proper performance of the function of the agency, whether the burden estimates are accurate, and if there are ways to minimize the estimated burden and enhance the quality of the collection, to Carol Fendler, Systems Accountant, Office of Investment, Small Business Administration, 409 3rd Street, SW., 8th floor, Wash., DC 20416.

For Further Information Contact: Carol Fendler, Systems Accountant, Office of Investment, 202-205-7559 carol.fendle@sba.gov Curtis B. Rich, Management Analyst, 202-205-7030 curtis.rich@sba.gov.

Supplementary Information: These forms are used by SBA examiners as part of their examination of licensed email business investment companies (SBIC's). This information collection obtains representations from an SBIC's management regarding certain obligations, transactions and relationships of the SBIC and helps SBA to evaluate the SBIC's financial condition and compliance with applicable laws and regulations.

Title: “Disclosure Statement-Leveraged; Disclosure Statement-Non-leveraged Licensees”.

Description of Respondents: Small Businesses Investment Companies.

Form Numbers: 856, 856A.

Annual Responses: 350.

Annual Burden: 162.

Addresses: Send all comments regarding whether this information collection is necessary for the proper performance of the function of the agency, whether the burden estimates are accurate, and if there are ways to minimize the estimated burden and enhance the quality of the collection, to George Solomon, Supervisor Business Development Officer, Office of Business Initiatives, Small Business Administration, 409 3rd Street, SW., 6th floor, Wash., DC 20416

For Further Information Contact: George Solomon, Supervisor Business Development Officer, Office of Business Initiatives, 202-205-7436 george.solomon@sba.gov Curtis B. Rich, Management Analyst, 202-205-7030 curtis.rich@sba.gov.

Supplementary Information: SBA's strategic plan is to examine the impact of counseling and information services on nascent, start-up and in-business clients. This survey measure effects on counseling and information transfer on the respondent's evaluation of the effectiveness, usefulness, and relevancy of the services provided and whether these services/actions led to the creation of jobs and an increase in business start-ups and gross revenue.

Title: “Entrepreneurial Development Impact Study”.

Description of Respondents: SBA Clients.

Form Number: 2214.

Annual Responses: 7,378.

Annual Burden: 1,230.

Addresses: Send all comments regarding whether this information collection is necessary for the proper performance of the function of the agency, whether the burden estimates are accurate, and if there are ways to minimize the estimated burden and enhance the quality of the collection, to Cindy Pitts, Administrative Officer, Office of Disaster Assistance, Small Business Administration, 409 3rd Street, SW., 6th floor, Wash., DC 20416

For Further Information Contact: Cindy Pitts, Administrative Officer, Office of Disaster Assistance, 202-205-7570 cynthia.pitts@sba.gov Curtis B. Rich, Management Analyst, 202-205-7030 curtis.rich@sba.gov.

Supplementary Information: Before disaster loan assistance can be provided, the Governor of the affected State must make a written request which identifies incident, time, place, and that criteria has been met for a disaster declaration to be made.

Title: “Governors Request for Disaster Declaration”.

Description of Respondents: Presidential Declared Disaster.

Form Number: N/A.

Annual Responses: 40.

Annual Burden: 800.

Addresses: Send all comments regarding whether these information collections are necessary for the proper performance of the function of the agency, whether the burden estimates are accurate, and if there are ways to minimize the estimated burden and enhance the quality of the collections, to David Loines, Area Director, Office of Government Contracting, Small Business Administration, 409 3rd Street, SW., 8th floor, Wash., DC 20416.

For Further Information Contact: David Loines, Area Director, Office of Government Contracting, 202-205-7311 david.loines@sba.gov Curtis B. Rich, Management Analyst, 202-205-7030 curtis.rich@sba.gov.

Supplementary Information: Federal Agencies and Prime Contractors nominate their suppliers by use of these forms. The forms are forwarded to the appropriate Government Contracting Office for judging purpose to determine the Regional and National annual small business week winners.

Title: “Nomination for the Small Business Prime Contractor of the year, Nomination for the Small Business Subcontractor of the year.

Description of Respondents: Prime Contractor, Subcontractor.

Form Number's: 883, 1375.

Annual Responses: 161.

Annual Burden: 402.

SBA uses this information to ensure that participants do not engage in any improper or illegal activity in connection with obtaining a Federal contract.

Addresses: Send all comments regarding whether these information collections are necessary for the proper performance of the function of the agency, whether the burden estimates are accurate, and if there are ways to minimize the estimated burden and enhance the quality of the collections, to Joseph Loddo, Director of Business Development, Office of Business Development, Small Business Administration, 409 3rd Street, SW., 8th floor, Wash., DC 20416.

For Further Information Contact: Joseph Loddo, Director of Business Development, Office of Business Development, 202-205-5852 joseph.loddo@sba.gov Curtis B. Rich, Management Analyst, 202-205-7030 curtis.rich@sba.gov.

Supplementary Information: Federal Agencies and Prime Contractors nominate their suppliers by use of these forms. The forms are forwarded to the appropriate Government Contracting Office for judging purpose to determine the Regional and National annual small business week winners.

Title: “Representatives Used and Compensation paid for Services in connection with obtaining Federal Contracts.

Description of Respondents: 8(a) Program Participants.

Form Number: 1790.

Annual Responses: 18,084.

Annual Burden: 18,084.

A participant must submit a capability statement describing the current contract performance capabilities. SBA uses the information collected to access the Participant's financial condition and continued 8(a) eligibility.

Title: “8 (a) Annual Update”.

Description of Respondents: 8(a) Program Participants.

Form Number: 1450.

Annual Responses: 7,258.

Annual Burden: 14,516.

Addresses: Send all comments regarding whether this information collection is necessary for the proper performance of the function of the agency, whether the burden estimates is accurate, and if there are ways to minimize the estimated burden and enhance the quality of the collections, to Edsel Brown, Assistant Administrator, Office of Technology, Small Business Administration, 409 3rd Street, SW., 8th floor, Wash., DC 20416.

For Further Information Contact: Edsel Brown, Assistant Administrator, Office of Technology, 202-205-7343 edsel.brown@sba.gov Curtis B. Rich, Management Analyst, 202-205-7030 curtis.rich@sba.gov.

Supplementary Information: This data will be used by SBA to maintain information about the SBIR and STTR awards issued through the two programs.

Title: “Small Business Innovation Research (SBIR) and Small Business Technology Transfer (STTR) Tech-Net Databases.

Description of Respondents: All Firms or Individuals applying for a Phase 1 or Phase II award from the SBIR or STTR program.

Form Number's: N/A.

Annual Responses: 37,000.

Annual Burden: 20,000.

Jacqueline White,
Chief, Administrative Information Branch.

[FR Doc. E8-23776 Filed 10-7-08; 8:45 am]

BILLING CODE 8025-01-P